DEPARTMENT OF TRANSPORTATION

Federal Aviation Administration

Sixth Meeting—RTCA Special Committee 220: Automatic Flight Guidance and Control

AGENCY: Federal Aviation Administration (FAA), DOT.

ACTION: Notice of RTCA Special Committee 220: Automatic Flight Guidance and Control meeting.

SUMMARY: The FAA is issuing this notice to advise the public of a meeting of RTCA Special Committee 220: Automatic Flight Guidance and Control.

DATES: The meeting will be held April 20-22, 2010. April 20th-21st from 9 a.m. to 5 p.m. and April 22nd from 9 a.m. to 2 p.m.

ADDRESSES: The meeting will be held at the La Quinta Inn, 20570 W 151st Street, Olathe, KS 66061, Tel: 1-913-254-0111, Fax: 1-913-254-0777.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 220: Automatic Flight Guidance and Control meeting. The agenda will include:

• Welcome/Agenda Overview

• Continue MOPS Write-up

• Wrap-up and Review of Action Items

• Establish Dates, Location, Agenda for Next Meeting, Other Business

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 23, 2010.
Francisco Estrada C.,
RTCA Advisory Committee.

[FR Doc. 2010-7084 Filed 3-29-10; 8:45 am]

BILLING CODE 4910-13-P